DEPARTMENT OF TRANSPORTATION

Federal Aviation Administration

14 CFR Part 39

[Docket No. FAA-2005-23314; Directorate Identifier 2005-NM-189-AD]

RIN 2120-AA64

Airworthiness Directives; Airbus Model A318-100 and A319-100 Series Airplanes, A320-111 Airplanes, A320-200 Series Airplanes, and A321-100 and A321-200 Series Airplanes

AGENCY: Federal Aviation Administration (FAA), Department of Transportation (DOT).

ACTION: Notice of proposed rulemaking (NPRM).

SUMMARY: The FAA proposes to adopt a new airworthiness directive (AD) for certain Airbus Model A318-100 and A319-100 series airplanes, A320-111 airplanes, A320-200 series airplanes, and A321-100 and A321-200 series airplanes. This proposed AD would require operators to review the airplane's maintenance records to determine the part numbers of the magnetic fuel level indicators (MFLI) of the fuel tank, and related investigative and corrective actions if necessary. This proposed AD results from several in-service incidents of wear and detachment of the top-stops from the MFLI. Such detachment allows the top-stop to move around the fuel tank, and the top-stop could come into contact or in close proximity with a gauging probe, resulting in compromise of the air gap between the probe and the structure and creating a potential ignition source. We are proposing this AD to prevent an ignition source in the fuel tank in the event of a lightning strike, which could result in a fire or explosion.

DATES: We must receive comments on this proposed AD by January 17, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “FAA-2005-23314; Directorate Identifier 2005-NM-189-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Génrale de l'Aviation Civile (DGAC), which is the airworthiness authority for France, notified us that an unsafe condition may exist on certain Airbus Model A318-100 and A319-100 series airplanes, A320-111 airplanes, A320-200 series airplanes, and A321-100 and A321-200 series airplanes. The DGAC advises that several in-service incidents of wear and detachment of the top-stops from the magnetic fuel level indicators (MFLI) have occurred. Analysis revealed that the affected top-stop is made of aluminum and retained with an S-shaped lock-wire that degrades over time. Detachment of the top-stop allows it to move around the fuel tank, and the top-stop could come into contact, or in close proximity, with a gauging probe, resulting in compromise of the air gap between the probe and the structure, and creating a potential ignition source. These conditions, if not corrected, could result in an ignition source in the fuel tank in the event of a lightning strike, which could result in a fire or explosion.

Relevant Service Information

Airbus has issued Service Bulletin A320-28-1138, dated March 18, 2005. The service bulletin describes procedures for reviewing the airplane's documentation to determine the part number (P/N) of the MFLI of the fuel tank, and related investigative and corrective actions if necessary. If the P/N for each MFLI cannot be determined from a records review, the related investigative actions include accomplishing a visual inspection of the internal bore of each MFLI using an endoscope to determine the type of MFLI that is installed. If any aluminum MFLI with an S-shaped lock-wire standard is installed, or if a MFLI with an old P/N is installed, the corrective action includes replacing the MFLI with a new, improved MFLI. Accomplishing the actions specified in the service information is intended to adequately address the unsafe condition. The DGAC mandated the service information and issued French airworthiness directive F-2005-108, dated July 6, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Difference Between the Proposed AD and French Airworthiness Directive

The applicability of the French airworthiness directive includes airplanes that are equipped with certain MFLI part numbers. However, we have not included those airplanes in the applicability of this proposed AD; rather, this proposed AD includes a requirement to review the airplane's maintenance records to determine if any MFLI of the fuel tank with a P/N identified in the old P/N column of the table in paragraph 1.L, “Interchangeability/Mixability,” of the referenced service bulletin is installed. Those P/Ns are the same as the P/Ns identified in the applicability of the French airworthiness directive. This requirement would ensure that the actions specified in the service bulletin and required by this proposed AD are accomplished on all affected airplanes. Operators must continue to operate the airplane in the configuration required by this proposed AD unless an alternative method of compliance is approved. This difference has been coordinated with the DGAC.

Costs of Compliance

This proposed AD would affect about 621 airplanes of U.S. registry. The proposed records review would take about 1 work hour per airplane, at an average labor rate of $65 per work hour. Based on these figures, the estimated cost of the proposed AD for U.S. operators is $40,365, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-23314; Directorate Identifier 2005-NM-189-AD.

Comments Due Date

(a) The FAA must receive comments on this AD action by January 17, 2006.

Affected ADs

(b) None.

Applicability

(c) This AD applies to Airbus Model A318-100 and A319-100 series airplanes; A320-111 airplanes; A320-200 series airplanes; and A321-100 and A321-200 series airplanes; certificated in any category; except airplanes on which Airbus Modification 27496 has been installed in production.

Unsafe Condition

(d) This AD results from several in-service incidents of wear and detachment of top-stops from the magnetic fuel level indicators (MFLI). Such detachment allows the top-stop to move around the fuel tank, and the top-stop could come into contact or in close proximity with a gauging probe, resulting in compromise of the air gap between the probe and the structure and creating a potential ignition source. We are issuing this AD to prevent an ignition source in the fuel tank in the event of a lightning strike, which could result in a fire or explosion.

Compliance

(e) You are responsible for having the actions required by this AD performed within the compliance times specified, unless the actions have already been done.

Review Airplane Maintenance Records/Investigative and Corrective Actions

(f) Within 65 months or 6,500 flight hours after the effective date of this AD, whichever is first: Review the airplane's maintenance records to determine the part number (P/N) of each MFLI of the fuel tank in accordance with the Accomplishment Instructions of Airbus Service Bulletin A320-28-1138, dated March 18, 2005. If the P/N cannot be identified, or the P/N is identified in the “old P/N” column of the table in paragraph 1.L., “Interchangeability/Mixability,” of the service bulletin, before further flight, do the applicable related investigative and corrective actions by accomplishing all of the actions in accordance with the Accomplishment Instructions of the service bulletin.

Parts Installation

(g) As of the effective date of this AD, no person may install on any airplane any MFLI with a P/N identified in the “old P/N” column of the table in paragraph 1.L., “Interchangeability/Mixability,” of Airbus Service Bulletin A320-28-1138, dated March 18, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-108, dated July 6, 2005, also addresses the subject of this AD.

Issued in Renton, Washington, on December 8, 2005.
Michael Zielinski,
Acting Manager, Transport Airplane Directorate, Aircraft Certification Service.

[FR Doc. 05-24051 Filed 12-14-05; 8:45 am]

BILLING CODE 4910-13-P